DEPARTMENT OF DEFENSE

Department of the Navy

[Docket ID USN-2011-0015]

Privacy Act of 1974; System of Records

AGENCY: Department of the Navy, Department of Defense (DoD).

ACTION: Notice to Add a New System of Records.

SUMMARY: The Department of the Navy proposes to add a new system of records to its inventory of record systems subject to the Privacy Act of 1974 (5 U.S.C. 552a), as amended.

DATES: The changes will be effective on November 30, 2011 unless comments are received that would result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, (202) 685-6545.

SUPPLEMENTARY INFORMATION: The Department of the Navy systems of records notice subject to the Privacy Act of 1974 (5 U.S.C. 552a), as amended, has been published in the Federal Register and is available from the address in FOR FURTHER INFORMATION CONTACT.

The proposed systems reports, as required by 5 U.S.C. 552a(r) of the Privacy Act of 1974, as amended, were submitted on October 21, 2011, to the House Committee on Government Report, the Senate Committee on Homeland Security and Governmental Affairs, and the Office of Management and Budget (OMB) pursuant to paragraph 4c of Appendix I to OMB Circular No. A-130, “Federal Agency Responsibilities for Maintaining records About Individual,” dated February 8, 1996 (February 20, 1996, 61 FR 6427).

Dated: October 26, 2011.
Aaron Siegel,
Alternate OSD Federal Register Liaison Officer, Department of Defense.

N05000-1

System name:

OPNAV Headquarters Web (HQWeb).

System location:

Chief of Naval Operations (DNS-4), 2000 Navy Pentagon, Washington, DC 20350-2000.

Categories of individuals covered by the system:

Navy, DoN Civilian employees and contractors.

Categories of records in the system:

Individual information to include: title, full name, current home address, home phone number, cell phone number, email addresses, rank/grade, date of rank, nationality, brief biography, spouse's name, child(ren)'s name(s), and emergency contact name and phone number.

Work related information to include: Current supervisor's name, date checked in, last command, next command, office name, address, room number, phone number, DSN, fax number, and email address; office of primary responsibility, position title, organization code, office designator, clearance, clearance adjudication date, competencies, secondary phone number, area of responsibility, area of interest, End of Active Obligated Service, reporting to position code, Unit Identification Code (UCI), and billet information.

Authority for maintenance of the system:

10 U.S.C. 5013, Secretary of the Navy; DoD 8500.2, Information Assurance (IA) Implementation; and SECNAVINST 5239.3B, Department of the Navy Information Assurance Policy.

Purpose(s):

The system provides information and support for staff collaboration, to include: flag officers and retired flag officers, internal and external staff coordination for the OPNAV staff; and other web services, such as libraries, workflow systems and related functions. The system is also used for recall rosters needed for emergency notification and reporting.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of Department of Navy compilation of systems of records notices apply to this system.

Policies and practices for storing, retrieving, accessing, retaining, and disposing of records in the system:

Storage:

Paper file folders and electronic storage media.

Retrievability:

Records are retrieved by name and/or organization code.

Safeguards:

The Personally Identifiable Information (PII) is encrypted and can only be accessed via the web-based HQWeb interface with an administrator or command manager account that is authorized to view. The HQWeb system is Common Access Card (CAC) enabled with the PII further protected by groups that limit access to command managers and specified individuals on a need to know basis. Command managers only have the ability to see contact information for those people in their command directory. Access to other command directories is not permitted.

Retention and disposal:

Destroy when 2 years old.

System manager(s) and address:

OPNAV CIO: Chief of Naval Operations (DNS-4), 2000 Navy Pentagon, Washington, DC 20350-2000.

Notification procedure:

Individuals seeking to determine whether information about themselves is contained in this system should address written inquiries to the Chief of Naval Operations (DNS-4), 2000 Navy Pentagon, Washington, DC 20350-2000 or visit the HQWeb Web site. Full name and command name should accompany the written inquiry. The system manager may require an original signature or a notarized signature as a means of proving the identity of the individual requesting access to the records.

Record access procedures:

Individuals seeking access to information about themselves contained in this system can access their personal data via HQWeb and make necessary changes to ensure information is accurate.

The system manager may require an original signature or a notarized signature as a means of proving the identity of the individual requesting access to the records.

Contesting record procedures:

The Navy's rules for accessing records and contesting contents and appealing initial agency determinations are published in Secretary of the Navy Instruction 5211.5; 32 CFR part 701; or may be obtained from the system manager.

Record source categories:

Individual.

Exemptions claimed for the system:

None.

[FR Doc. 2011-28059 Filed 10-28-11; 8:45 am]

BILLING CODE 5001-06-P